DEPARTMENT OF DEFENSE

Department of the Navy

Notice of Performance Review Board Membership

AGENCY: Department of the Navy, DoD.

ACTION: Notice.

SUMMARY: Pursuant to reference (a), the Department of Navy (DoN) announces the appointment of members to the DoN's Senior Executive Service (SES) Organizational Pay Pools (PPs) and the DoN Performance Review Board (PRB). The purpose of the PPs/PRB is to provide fair and impartial review of the annual SES performance appraisal prepared by the senior executive's immediate and second level supervisor; to make recommendations to appointing officials regarding acceptance or modification of the performance rating; and to make recommendations for performance bonuses. Composition of the specific PPs and PRB will be determined on an ad hoc basis from among the individuals listed in the Notice of Performance Review Board Membership below.

CAPT Anthony Ferrari

CAPT Robert Palisin

Dr. Frank Herr

Dr. John Burrow

Dr. John Montgomery

Dr. Judith Lean

Dr. Thomas Killion

Dr. Walter F. Jones

Honorable Mr. Juan Garcia

LtGen William Faulkner

Mr. Anthony Cifone

Mr. Brian Persons

Mr. Donald McCormack

Mr. Donald McCormack

Mr. Elliott Branch

Mr. Gary Kessler

Mr. Gary Newton

Mr. James McCarthy

Mr. James Thomsen

Mr. Jerome Punderson

Mr. John Goodhart

Mr. John Thackrah

Mr. John Zangardi

Mr. Mark Andress

Mr. Mark Honecker

Mr. Mark Ridley

Mr. Michael Kistler

Mr. Patrick Sullivan

Mr. Phillip Chudoba

Mr. Richard Gilpin

Mr. Robert Hogue

Mr. Roger Natsuhara

Mr. Scott Lutterloh

Mr. Scott O'Neil

Mr. Sean Stackley

Mr. Stephen Trautman

Mr. Steven Iselin

Mr. Thomas Ledvina

Mr. Victor Ackley

Ms. Allison Stiller

Ms. Andrea Brotherton

Ms. Anne Brennan

Ms. Anne Davis

Ms. Carmela Keeney

Ms. Diane Balderson

Ms. Lynn Wright

Ms. Sharon Smoot

Ms. Sheryl Murray

Ms. Steffanie Easter

Ms. Wendy Kay

RADM David Johnson

RADM James Foggo

RADM James Shannon

RADM Kevin Slates

RADM Richard Breckenridge

RADM Thomas Moore

RDML Lawrence Creevy

RDML Paul Sohl

VADM Paul Grosklags

VADM Terry Benedict

FOR FURTHER INFORMATION CONTACT: Ms. Bernadina Reyes, Office of Civilian Human Resources, telephone 703-693-0222.

Dated: December 5, 2013.
N.A. Hagerty-Ford,
Commander, Office of the Judge Advocate General, U.S. Navy, Federal Register Liaison Officer.

[FR Doc. 2013-31387 Filed 12-31-13; 8:45 am]

BILLING CODE 3810-FF-P